DEPARTMENT OF THE INTERIOR

National Park Service

National Register of Historic Places; Notification of Pending Nominations

Nominations for the following properties being considered for listing in the National Register were received by the National Park Service before November 29, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by December 31, 2003.

Carol D. Shull,
Keeper of the National Register of Historic Places.

CALIFORNIA

Stanislaus County

Plaza Building, Plaza #2, Patterson, 03001359

COLORADO

Costilla County

San Luis Souther Railway Trestle, (Railroads in Colorado, 1858-1948 MPS) abandoned section of Costilla Cty Rd. 12, Blanca, 03001361

Garfield County

Canyon (Canon) Creek School, District No. 32, (Rural School Buildings in Colorado MPS) 0566 Cty Rd. 137, Glenwood Springs, 03001360

Larimer County

Benson, A.S., House, 463 W. 5th St., Loveland, 03001362

FLORIDA

Indian River County

Old Town Sebastian Historic District, West, Bounded by Palmetto Ave, Lake and Main Sts., Sebastian, 03001364

Palm Beach County

Lofthus (shipwreck), 0.75 mi. N. of Boynton Inlet, 175 yards offshore, Boynton Beach, 03001363

GEORGIA

Banks County

Turk Family Farm, 534 Carson Segars Rd., Maysville, 03001365

IDAHO

Gooding County

Schubert Theatre, (Motion Picture Theater Buildings in Idaho MPS) 402 Main St., Gooding, 03001367

Idaho County

Baker, James V. and Sophia, House, 204 Broadway St., Cottonwood, 03001366

Latah County

White Spring Ranch, 1004 Lorang Rd., Genesee, 03001368

Washington County

Wilson House, 75 N. 5th St., Cambridge, 03001369

IOWA

Mahaska County

Vander Wilt Farmstead Historic District, 1345 IA 163, Black Oak Twp., Sec. 22, T26N, R17W, SW. of Ne, Leighton, 03001370

MARYLAND

Baltimore Independent city

Ednor Gardens Historic District, Roughly bounded by Ellerslie Ave., 36th St., The Alameda, Andover Rd. and Chestnut Hill Ave., Baltimore (Independent City), 03001373

Mayfield Historic District, Lake Montebello Rd.—Chesterfield Ave.,—Crossland Ave.—Erdman Ave., Baltimore (Independent City), 03001371

MASSACHUSETTS

Bristol County

Attleborough Falls Historic District, Mt. Hope St., just W of Reservoir St. to the 10 Mile River, Towne St. from Mt. Hope St. to the 10 Mile River, North Attleborough, 03001372

MINNESOTA

Dakota County

Oheyawahi—Pilot Knob, off MN 55, Mendota Heights, 03001374

NORTH CAROLINA

Gaston County

Downtown Gastonia Historic District, Roughly bounded by Main Ave., Broad St., Second Ave., and Chester St., Gastonia, 03001375

TEXAS

Fort Bend County

Woods, B. Ray and Charlotte, House, 610 Woods Ln., Katy, 03001377

Hunt County

Central Christian Church, 2611 Wesley St., Greenville, 03001376

[FR Doc. 03-30928 Filed 12-15-03; 8:45 am]

BILLING CODE 4312-51-P